SECURITIES AND EXCHANGE COMMISSION

[File No. 500-1]

In the Matter of Enterprise Energy, Inc., Order of Suspension of Trading

June 14, 2016.

It appears to the Securities and Exchange Commission (“Commission”) that the public interest and the protection of investors require a suspension of trading in the securities of Enterprise Energy, Inc. (CIK No. 0001587285) because of recent, unusual and unexplained market activity and potentially manipulative transactions in the company's stock. Enterprise Energy, Inc. is a Nevada corporation with its principal place of business listed as Las Vegas, Nevada, with stock quoted on OTC Link (previously “Pink Sheets”) operated by OTC Markets Group Inc. under the ticker symbol EYGY.

Therefore, it is ordered, pursuant to Section 12(k) of the Securities Exchange Act of 1934, that trading in the securities of Enterprise Energy, Inc. is suspended for the period from 9:30 a.m. EDT on June 14, 2016, through 11:59 p.m. EDT on June 27, 2016.

By the Commission.
Jill M. Peterson,
Assistant Secretary.

[FR Doc. 2016-14379 Filed 6-14-16; 4:15 pm]

BILLING CODE 8011-01-P